POSTAL SERVICE

International Product Change—United States Postal Service Inbound Competitive Multi-Service Agreements With Foreign Postal Operators

AGENCY: Postal Service.™

ACTION: Notice.

SUMMARY: The Postal Service gives notice of filing a request with the Postal Regulatory Commission to add Inbound Competitive Multi-Service Agreements to the Competitive Products List pursuant to 39 U.S.C. 3642.

DATES: August 25, 2010.

FOR FURTHER INFORMATION CONTACT: Margaret M. Falwell, 703-292-3576.

SUPPLEMENTARY INFORMATION: The United States Postal Service® gives notice of the filing of a request with the Postal Regulatory Commission to Add Inbound Competitive Multi-Service Agreements to the Competitive Product List, and Notice of Filing (Under Seal) the Enabling Governors' Decision. Documents are available at http://www.prc.gov, Docket Nos. MC2010-34 and CP2010-95.

Neva R. Watson,
Attorney, Legislative.

[FR Doc. 2010-21147 Filed 8-24-10; 8:45 am]

BILLING CODE 7710-12-P